DEPARTMENT OF HEALTH AND HUMAN SERVICES

National Institutes of Health

National Library of Medicine; Notice of Meeting

Pursuant to section 10(d) of the Federal Advisory Committee Act, as amended, notice is hereby given of a meeting of the Board of Regents of the National Library of Medicine.

The meeting will be open to the public as indicated below. Individuals who plan to attend and need special assistance, such as sign language interpretation or other reasonable accommodations should notify the Contact Person listed below in advance of the meeting.

The meeting will be closed to the public in accordance with the provisions set forth in sections 552b(c)(4) and 552b(c)(6), Title 5 U.S.C., as amended. The grant applications and the discussions could disclose confidential trade secrets or commercial property such as patentable materials, and personal information concerning individuals associated with the grant applications, the disclosure of which would constitute a clearly unwarranted invasion of personal privacy.

Name of Committee: Board of Regents of the National Library of Medicine.

Date: May 9, 2023.

Open: May 9, 2023, 10:00 a.m. to 4:00 p.m.

Agenda: Program Discussion.

Place: National Library of Medicine, 8600 Rockville Pike, Bethesda, MD 20892 (Virtual Meeting).

Closed: May 9, 2023, 4:00 p.m. to 4:30 p.m.

Agenda: To review and evaluate grant applications.

Contact Person: Christine Ireland, Committee Management Officer, Division of Extramural Programs, National Library of Medicine, Bethesda, MD 20892, 301-594-4929, irelanc@mail.nih.gov.

Any member of the public may submit written comments no later than 15 days in advance of the meeting. Any interested person may file written comments with the committee by forwarding the statement to the Contact Person listed on this notice. The statement should include the name, address, telephone number and when applicable, the business or professional affiliation of the interested person.

Information is also available on the Institute's/Center's home page: www.nlm.nih.gov/od/bor/bor.html where additional information for the meeting will be posted when available. This meeting will be broadcast to the public, and available for viewing at https://videocast.nih.gov on May 9, 2023.

(Catalogue of Federal Domestic Assistance Program No. 93.879, Medical Library Assistance, National Institutes of Health, HHS).

Dated: February 21, 2023.
Miguelina Perez,
Program Analyst, Office of Federal Advisory Committee Policy.

[FR Doc. 2023-03845 Filed 2-23-23; 8:45 am]

BILLING CODE 4140-01-P